DEPARTMENT OF HOMELAND SECURITY

Coast Guard

33 CFR Part 117

[Docket No. USCG-2010-1028]

Drawbridge Operation Regulations; Mystic River, Mystic, CT

AGENCY: Coast Guard, DHS.

ACTION: Notice of temporary deviation from regulations.

SUMMARY: The Commander, First Coast Guard District, has issued a temporary deviation from the regulation governing the operation of the Route 1 Bridge across the Mystic River, mile 2.8, at Mystic, CT. The deviation is necessary to facilitate painting operations at the bridge. Under this deviation the bridge may remain in the closed position during the winter months December through April.

DATES: This deviation is effective for enforcement: With actual notice from December 2, 2010, through December 15, 2010 and with constructive notice from December 15, 2010 through April 5, 2011.

ADDRESSES: Documents mentioned in this preamble as being available in the docket are part of docket USCG-2010-1028 and are available online at http://www.regulations.gov, inserting USCG-2010-1028 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy K. Leung-Yee, Project Officer, First Coast Guard District, telephone (212) 668-7165, judy.k.leung-yee@uscg.mil. If you have questions on viewing the docket, call Renee V. Wright, Program Manager, Docket Operations, telephone 202-366-9826.

SUPPLEMENTARY INFORMATION: The Route 1 Bridge across the Mystic River at mile 2.8, has a vertical clearance of 4 feet at mean high water and 7 feet at men low water. The drawbridge operation regulations are listed at 33 CFR 117.211. The normal waterway users are predominantly recreational craft of various sizes.

The owner of the bridge, Connecticut Department of Transportation, requested a temporary deviation from the regulations to allow the bridge to remain in the closed position to facilitate painting operations at the bridge.

Under this temporary deviation the Route 1 Bridge may remain in the closed position from December 2, 2010, through April 15, 2011, for bridge painting. Vessels that can pass under the bridge in the closed position may do so at any time.

The bridge has received few requests to open during this time period during the past three years. The waterway users were advised of the requested bridge closure and no objections were received.

In accordance with 33 CFR 117.35(e), the bridge must return to its regular operating schedule immediately at the end of the designated time period. This deviation from the operating regulations is authorized under 33 CFR 117.35.

Dated: December 2, 2010.
Gary Kassof,
Bridge Program Manager, First Coast Guard District.

[FR Doc. 2010-31409 Filed 12-14-10; 8:45 am]

BILLING CODE 9110-04-P